DEPARTMENT OF TRANSPORTATION

Federal Aviation Administration

Fifteenth Meeting of the RTCA Tactical Operations Committee

AGENCY: Federal Aviation Administration (FAA), U.S. Department of Transportation (DOT).

ACTION: Fifteenth Meeting of the RTCA Tactical Operations Committee.

SUMMARY: The FAA is issuing this notice to advise the public of the Fifteenth Meeting of the RTCA Tactical Operations Committee.

DATES: The meeting will be held October 27, 2016, 10:00 a.m.-04:00 p.m.

ADDRESSES: The meeting will be held at: RTCA Headquarters, 1150 18th Street NW., Suite 910, Washington, DC 20036.

FOR FURTHER INFORMATION CONTACT: Trin Mitra at tmitra@rtca.org or 202-330-0655, the RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for the Fifteenth Meeting of the RTCA Tactical Operations Committee. The agenda will include the following:

Thursday, October 27, 2016—10 a.m.-4 p.m.

1. Opening of Meeting/Introduction of TOC Members—Co-Chairs Dale Wright and Bryan Quigley

2. Official Statement of Designated Federal Official—Elizabeth Ray

3. Approval of June 23, 2016 Meeting Summary

4. FAA Update—Elizabeth Ray

5. Review Draft Recommendations from Graphical TFR Task Group

6. Update from PBN Route Structure Task Group

a. High Altitude Group

b. Overview briefing on Alaska needs

c. Low Altitude Groups

7. Update on Previous TOC Recommendations

8. Discuss Potential Future TOC Tasks

9. Update on the NextGen Advisory Committee (NAC)

10. Update on the Drone Advisory Committee (DAC)

11. Plan for Future TOC Meetings

12. Other Business

13. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on September 28, 2016.
Mohannad Dawoud,
Management & Program Analyst, Partnership Contracts Branch, ANG-A17, NextGen, Procurement Services Division, Federal Aviation Administration.

[FR Doc. 2016-23896 Filed 10-3-16; 8:45 am]

BILLING CODE 4910-13-P